DEPARTMENT OF ENERGY

Federal Energy Regulatory Commission

[Project No. 2520-098]

Great Lakes Hydro America, LLC; Notice of Intent To Prepare an Environmental Assessment

On September 30, 2024, as supplemented on January 7, 2025, April 28, 2025, May 7, 2025, June 20, 2025, and July 30, 2025, Great Lakes Hydro America, LLC, licensee for the Mattaceunk Hydroelectric Project No. 2520, filed an application for a temporary variance from Article 403 of the project license. The project is located on the Penobscot River in Aroostook and Penobscot counties, Maine and does not occupy any federal lands.

The licensee is requesting a temporary variance of the required minimum flow and impoundment elevation under Article 403 of the project license to facilitate maintenance activities at the upstream fishway structures and the sluice gate. The variance would entail modification of the required minimum flows to the bypass reach and draw the elevation down to approximately 22 feet below the full pond elevation of 218 feet from approximately early August to late September 2025. On May 12, 2025, the Commission issued a public notice for the proposed variance, accepting the application for filing and soliciting comments, motions to intervene, and protests. The notice established a 30-day deadline, or June 11, 2025, for filing responses to the notice. On June 5, 2025, the National Marine Fisheries Service (NMFS) filed a notice of intervention and comments. No other comments or motions to intervene were received.

In support of the proposed impoundment drawdown, and the subsequent maintenance and repair work, the licensee filed a draft Biological Assessment (BA) on January 7, 2025, which addressed the effects of the proposed action on the Gulf of Maine Distinct Population Segment (GOM DPS) of Atlantic salmon (Salmo salar), which is federally listed as endangered under the Endangered Species Act (ESA). The draft BA also evaluated the effects of the proposed action on designated critical habitat for GOM DPS of Atlantic salmon. By letter dated March 20, 2025, Commission staff adopted the draft BA without modification as our final BA, and requested formal consultation with NMFS. Commission staff concluded that the proposed impoundment drawdown, along with the scheduled maintenance and repair work, are likely to adversely affect GOM DPS of Atlantic salmon, and are not likely to adversely affect designated critical habitat for the GOM DPS of Atlantic salmon. Commission staff additionally noted that the Penobscot River in the area of the project facilities is designated as essential fish habitat (EFH) for Atlantic salmon, pursuant to the Magnuson-Stevens Fishery Conservation and Management Act. Therefore, Commission staff concluded that EFH for Atlantic salmon may also be affected by the proposed impoundment drawdown and the subsequent maintenance and repair work. On April 21, 2025, NMFS notified the Commission that all information required to initiate formal consultation is included in the consultation request, BA, or is otherwise accessible for consideration and reference.

The licensee filed supplemental information on April 28, 2025 and May 7, 2025, that discussed debris removal work that would be conducted concurrently with the proposed drawdown. By letter dated May 13, 2025, Commission staff incorporated the supplemental information into the previously filed BA, and requested formal consultation under the ESA with NMFS. Commission staff continued to conclude that the proposed impoundment drawdown, along with the subsequently scheduled maintenance and repair work, and the removal of woody debris, are likely to adversely affect GOM DPS of Atlantic salmon, and are not likely to adversely affect designated critical habitat for the GOM DPS of Atlantic salmon. Commission staff additionally concluded that EFH for Atlantic salmon may also be affected by the proposed impoundment drawdown, maintenance and repair work, and the removal of woody debris.

On July 25, 2025, NMFS filed its biological opinion in response to the Commission's BA. NMFS concluded that the proposed project may adversely affect, but is not likely to jeopardize, the continued existence of the GOM DPS of Atlantic salmon, and is likely to adversely affect, but is not likely to destroy or adversely modify, designated critical habitat for the GOM DPS of Atlantic salmon. NMFS further noted that the proposed action may adversely affect Atlantic salmon EFH. NMFS included in the BO an Incidental Take Statement, which contained one reasonable and prudent measure, six terms and conditions in order to minimize take, and two conservation recommendations.

This notice identifies Commission staff's intention to prepare an environmental assessment (EA) for the project.¹ Commission staff plans to issue an EA by September 10, 2025. Revisions to the schedule may be made as appropriate.

¹ For tracking purposes under the National Environmental Policy Act, the unique identification number for documents relating to this environmental review is EAXX-019-20-000-1753693860.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Selina Sumi at selina.sumi@ferc.gov or 202-502-6892.

Dated: July 30, 2025.
Carlos D. Clay,
Deputy Secretary.

[FR Doc. 2025-14695 Filed 8-1-25; 8:45 am]

BILLING CODE 6717-01-P